LIBRARY OF CONGRESS

Notice: Competition/Russian Leadership Program Alumni Activities

Authority: Sec. 1(a)(2), Pub. L. 106-554, 114 Stat. 2763, 2763A-119-120 (22 U.S.C. 2542a note, 2 U.S.C. 1151).

SUMMARY: The Russian Leadership Program (RLP) at the Library of Congress was authorized by Public Law 106-31; Public Law 106-113; Public Law 106-554 to foster a mutual exchange of ideas and opinions among political leaders and citizens of Russia and the United States. A description of RLP Program can be found at http:/www.loc.gov/rlp. The Russian Leadership Program (RLP) currently has over 3,600 alumni in 88 of the 89 regions of Russia. In an effort to promote development of local and regional networks of RLP participants, the Program sponsored 10 regional alumni conferences in 2000. The conferences were held in Moscow, St Petersburg, Ekaterinburg, Novosibirsk, Tomsk, Ulan Ude, Rostov-on-the Don, Samara, Nizhny Novgorod, and Vladivostok. The RLP is considering continuing and expanding alumni activities through the development of electronic communications and the identification of alumni training needs, sources of regional network building and discrete projects which benefit from partnerships with American organizations active in the region. The Library of Congress is seeking interested participants to identify these needs and relevant community-building projects and develop network-building activities.

DATES: Responses must be received by May 1, 2001.

ADDRESSES: The Library of Congress, Contracts & Logistics Service, COTR: Morgan Day, C&L, 101 Independence Avenue, SE., Washington, DC 20540-9410.

FOR FURTHER INFORMATION CONTACT: Ruth Nelson of Contracts and Logistics, Library of Congress, Washington, DC 20540-9410. Email address: rune@loc.gov.

SUPPLEMENTARY INFORMATION: Respondents should have broad experience in the Russian Federation, and be knowledgeable about its institutions, language, and culture. Respondents should have experience with programs in the regions of Russia and demonstrate a familiarity with existing American and internationally-sponsored regional activities. The funding made available by the Library would cover travel, per diem, support of regionally-based offices, and program materials. Respondents may be asked to work collaboratively with a third party in addition to the Library to fulfill RLP Alumni program. This Request for Information (RFI) shall close to response 14 days after publication. Interested parties should send written expressions of interest to Ruth Nelson at rune@loc.gov. The written expression of interest should address capabilities, experience, and language expertise of current staff, etc. as outlined above. Submissions should be limited to 6 pages. The Library shall entertain expressions of interest reflecting individual or collaborative approaches. The intent of this sources sought synopsis is to determine if any sources exist, therefore, no solicitation is available. Consequently, any responses failing to provide the aforementioned data but instead is submitted as a routine letter requesting a copy of the solicitation will be ignored. Written responses must be submitted to the Contracting Officer by the deadline at the address shown above. Reference: RFI-011.

Dated: April 4, 2001.
James H. Billington,
The Librarian of Congress.

[FR Doc. 01-9437 Filed 4-16-01; 8:45 am]

BILLING CODE 1410-10-P